DEPARTMENT OF ENERGY

Federal Energy Regulatory Commission

Combined Notice of Filings #1

Take notice that the Commission received the following electric corporate filings:

Docket Numbers: EC13-49-000.

Applicants: Central Maine Power Company, Maine Electric Power Company.

Description: Central Maine Power Company and Maine Electric Power Company submit clarification to the November 30, 2012 Application for Authorization Under Section 203.

Filed Date: 1/4/13.

Accession Number: 20130104-5124.

Comments Due: 5 p.m. ET 1/18/13.

Take notice that the Commission received the following electric rate filings:

Docket Numbers: ER10-2331-015; ER10-2343-015; ER10-2319-014; ER10-2320-014; ER10-2317-013; ER10-2322-015; ER10-2324-014; ER10-2325-013; ER10-2332-014; ER10-2326-015; ER10-2327-016; ER10-2328-014; ER11-4609-013; ER10-2330-015.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Triton Power Michigan LLC, Utility Contract Funding, L.L.C.

Description: JPMorgan Sellers Notice of Non-Material Change in Status re: Chisholm View Wind.

Filed Date: 1/11/13.

Accession Number: 20130111-5002.

Comments Due: 5 p.m. ET 2/1/13.

Docket Numbers: ER13-587-001.

Applicants: Carson Cogeneration Company LP.

Description: Amended Application for Order Accepting Initial MBR Tariff to be effective 2/1/2013.

Filed Date: 1/10/13.

Accession Number: 20130110-5113.

Comments Due: 5 p.m. ET 1/31/13.

Docket Numbers: ER13-746-000.

Applicants: Bruce Power Inc.

Description: 2nd Revised MBR to be effective 1/11/2013.

Filed Date: 1/10/13.

Accession Number: 20130110-5120.

Comments Due: 5 p.m. ET 1/31/13.

Docket Numbers: ER13-747-000.

Applicants: PJM Interconnection, L.L.C.

Description: Queue Position S-007, S-008, S-009, S-010; Original SA No. 3479 to be effective 12/11/2012.

Filed Date: 1/10/13.

Accession Number: 20130110-5126.

Comments Due: 5 p.m. ET 1/31/13.

Docket Numbers: ER13-748-000.

Applicants: Southern California Edison Company.

Description: Transmission Reassignment Tariff to be effective 1/12/2013.

Filed Date: 1/11/13.

Accession Number: 20130111-5000.

Comments Due: 5 p.m. ET 2/1/13.

Docket Number: ER13-749-000.

Applicants: Mega Energy of New England, LLC.

Description: Mega Energy of New England, LLC submits tariff filing per 35.12: Baseline New to be effective 3/7/2013.

Filed Date: 1/11/13.

Accession Number: 20130111-5053.

Comments Due: 5 p.m. ET 2/1/13.

Docket Numbers: ER13-750-000.

Applicants: New England Power Pool Participants Committee, ISO New England Inc.

Description: New England Power Pool Participants Committee submits tariff filing per 35.13(a)(2)(iii: Information Policy to be effective 3/13/2013.

Filed Date: 1/11/13.

Accession Number: 20130111-5054.

Comments Due: 5 p.m. ET 2/1/13.

Docket Numbers: ER13-751-000.

Applicants: Midwest Independent Transmission System Operator, Inc.

Description: 2013-01-11 MDU Attachment O and GG to be effective 1/1/2013.

Filed Date: 1/11/13.

Accession Number: 20130111-5115.

Comments Due: 5 p.m. ET 2/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2013.
Nathaniel J. Davis, Sr.,
Deputy Secretary.

[FR Doc. 2013-00982 Filed 1-17-13; 8:45 am]

BILLING CODE 6717-01-P